DELAWARE RIVER BASIN COMMISSION

Notice of Commission Meeting and Public Hearing

Notice is hereby given that the Delaware River Basin Commission will hold an informal conference followed by a public hearing on Wednesday, July 16, 2008. The hearing will be part of the Commission's regular business meeting. Both the conference session and business meeting are open to the public and will be held at the Commission's office building, located at 25 State Police Drive in West Trenton, New Jersey.

The conference among the commissioners and staff will begin at 10:30 a.m. Topics of discussion will include: A status report concerning the RFP for a reassessment study to be undertaken in accordance with the Decree Party Agreement of September 26, 2007; a presentation on the U.S. Geological Survey Water for America initiative; a presentation on the multi-jurisdictional flood mitigation planning effort completed for the non-tidal portion of the basin within the State of New Jersey; and a briefing on the Commission's role in regulating oil and gas drilling activity in the Delaware Basin.

The subjects of the public hearing to be held during the 1:30 p.m. business meeting include the dockets listed below:

1. Borough of Paulsboro Water Department D-72-67 CP-2. An application for the renewal of a ground water withdrawal project to continue withdrawal of 62 million gallons per thirty days (mg/30 days) to supply the applicant's public water supply distribution system from existing Wells Nos. 4, 5 and 7 in the Potomac-Raritan-Magothy Aquifer. The project is located in the Mantua Creek Watershed in the Borough of Paulsboro, Gloucester County, New Jersey.

2. Village of Margaretville D-74-157 CP-2. An application to replace the withdrawal of water from the “Fair Street well” in the applicant's public water supply distribution system. This well has become an unreliable source of supply. The applicant requests that the withdrawal from the “Fair Street replacement well” be limited to 18.529 mg/30 days of water, and that the total withdrawal from all wells remain limited to 18.529 mg/30 days. The project is located in the sand, glacial till aquifer in the East Branch Delaware Watershed in the Village of Margaretville, Delaware County, New York. The site is located within the drainage area to the section of the non-tidal Delaware River known as the Upper Delaware, which is designated as Special Protection Waters.

3. Hazleton City Authority D-91-65 CP-3. An application for the renewal of a ground water withdrawal project to continue withdrawal of 3.6 mg/30 days to supply the applicant's public water supply distribution system from existing Well No. 1. The project is located in the Mauch Chunk Formation in the Schafer's Run Watershed in Lausanne Township, Carbon County, Pennsylvania, within the drainage area to the section of the non-tidal Delaware River known as the Lower Delaware, which is designated as Special Protection Waters.

4. Matrix Realty, Inc. d/b/a Commonwealth National Country Club D-96-27-2. An application for the renewal of a ground and surface water withdrawal project to continue withdrawal of 5 mg/30 days to supply the applicant's golf course irrigation system from existing Well No. CW-2 in the Stockton Formation and one existing pond. The project is located in the Park Creek Watershed in Horsham Township, Montgomery County, Pennsylvania, within the Southeastern Pennsylvania Ground Water Protected Area.

5. Horsham Water and Sewer Authority D-97-16 CP-2. An application for the renewal of a ground water withdrawal project to continue withdrawal of 83.36 mg/30 days to supply the applicant's public water supply distribution system from fifteen existing wells. The project is located in the Stockton Formation in the Pennypack Creek, Park Creek and Little Neshaminy Creek watersheds in Horsham Township, Montgomery County, Pennsylvania, within the Southeastern Pennsylvania Ground Water Protected Area.

6. Merck and Company, Inc. D-98-14-2. An application for the renewal of a ground water withdrawal project to continue the withdrawal of 45 mg/30 days to supply the applicant's ground water remediation and facility operations from twelve existing wells in the Brunswick and Lockatong Formations. The project is located in the Skippack and Wissahickon Creek watersheds in Upper Gwynedd Township, Montgomery County, Pennsylvania, within the Southeastern Pennsylvania Ground Water Protected Area.

7. Honey Brook Golf Club D-98-28-2. An application for the renewal of a ground water withdrawal project to continue withdrawal of 10.3 mg/30 days to supply the applicant's golf course irrigation system from existing Well No. PW#1 in the Honey Brook Gneiss Formation. The project is located in the Brandywine-Christiana Watershed in Honey Brook Township, Chester County, Pennsylvania.

8. City of Harrington D-68-24 CP-2. An application for approval of the upgrade and expansion of the Harrington wastewater treatment plant (WWTP). The application is for the addition of biological nutrient removal and a 15,400 foot force main to transmit treated effluent to a new spray irrigation site. To comply with the Murderkill Total Maximum Daily Load (TMDL), the applicant is eliminating a stream discharge to the Browns Branch. The WWTP will be expanded from a flow of 0.57 million gallons per day (mgd) to a final flow of 0.75 mgd. The new spray irrigation fields (152 acres) are located adjacent to the Manlove Branch, a tributary to the Murderkill River. The facility is located in the City of Harrington, Kent County, Delaware.

9. Honesdale Borough D-86-9 CP-2. An application for approval of the reconstruction and expansion of the Honesdale Borough WWTP from 1.12 million gallons per day (mgd) to 2.2 mgd. The Honesdale WWTP discharges to the Lackawaxen River, a tributary to the section of the non-tidal Delaware River know as the Upper Delaware, which is designated as Special Protection Waters. The facilities are located in Texas Township, Wayne County, Pennsylvania.

10. Northeast Land Company D-89-10 CP-3. An application for the renewal of a ground water withdrawal project to decrease withdrawal from 4.96 mg/30 days to 4.65 mg/30 days to supply the applicant's public water supply distribution system from existing Well No. 1 and new Well No. 2. The project is located in the Catskill Formation in the Tunkhannock Creek Watershed in Kidder Township, Carbon County, Pennsylvania. The site is located within the drainage area to the section of the non-tidal Delaware River known as the Lower Delaware, which is designated as Special Protection Waters.

11. Upper Deerfield Township D-93-16 CP-3. An application for approval of a ground water withdrawal project to supply up to 40 mg/30 days of water to the applicant's public water supply distribution system from new Wells Nos. 15 and 17 and existing Wells Nos. 3 and 4 and to increase the existing withdrawal from all wells from 19.8 mg/30 days to 40 mg/30 days. The increased allocation is requested in order to meet projected increases in service area demand. The project is located in the Cohansey Formation in the Cohansey River Watershed in Upper Deerfield Township, Cumberland County, New Jersey.

12. Pine Valley Golf Club D-96-34-2. An application for the renewal of a ground and surface water withdrawal project to decrease withdrawal from 32 mg/30 days to 28 mg/30 days to supply the applicant's golf course irrigation and club house from existing Wells Nos. 2 and 3 and Intakes Nos. 1 and 2 in the Mt. Laurel-Wenonah Formation. The project is located in the North Branch Big Timber Creek Watershed in Pine Valley Borough, Camden County, New Jersey.

13. Tidewater Utilities, Inc. D-2002-4 CP-2. An application for the renewal of a ground water withdrawal project to increase withdrawal from 7.95 mg/30 days to 52.056 mg/30 days to supply the applicant's public water supply distribution system from existing Well No. 74787 and new Wells Nos. 193788, 193789 and 184338. The increased allocation is requested in order to meet projected increases in service area demand. The project is located in the Columbia-Pocomoke and Beverdam formations in the Broadkill River Watershed in the City of Lewes and the City of Rehoboth Beach, Sussex County, Delaware.

14. Municipal Authority of the Township of Westfall D-2002-23 CP-2. An application for the expansion of an existing WWTP (formerly known as the Hunts Landing Plant) to meet regional growth needs. The proposed WWTP expansion will increase the discharge to the main stem Delaware River from 0.3 mgd to 0.82 mgd. The WWTP is located on the west bank of the Delaware River in Water Quality Zone 1C and discharges to Special Protection Waters classified as “Significant Resource Waters” at river mile 252.5. The facility is located in Westfall Township, Pike County, Pennsylvania.

15. Hudson Valley Foie Gras, LLC D-2006-37-2. An application for approval of the modification of an existing WWTP by the addition of effluent sand filters. The discharge from the 20,000 gallons per day (gpd) WWTP will continue to be discharged to the Middle Mongaup River, a tributary of the section of the non-tidal Delaware known as the Upper Delaware, which is designated as Special Protection Waters. The facility is located in Ferndale, Sullivan County, New York.

16. City of Easton D-2007-031 CP-1. An application for the approval of the existing Easton water treatment plant's (WTP) 0.75 mgd backwash discharge. The WTP discharges filter backwash and sludge filter press filtrate to the section of the Delaware River known as the Lower Delaware Special Protection Waters. The facility is located in the City of Easton, Northampton County, Pennsylvania.

17. Mays Landing Sand and Gravel D-2007-32-1. An application for approval of a surface water withdrawal project to supply up to 112.3 mg/30 days of water for sand and gravel processing. The surface water is used to process sand and gravel in a loop system which returns approximately 90% of the water to the pond. The project is located in the Maurice River Watershed in Maurice River Twp., Cumberland County, New Jersey.

18. Philadelphia Water Department (PWD) D-2008-9 CP-1. An application for approval of the construction of the Venice Island Storage Tank Project (“the project”). The project consists of a 3 million gallon storage basin and head house building and a performing arts center. The storage tank will receive up to 3 million gallons of combined sewer overflows diverted during peak rain events, which will later be returned to the intercepting sewer for subsequent treatment at PWD's Southwest WWTP. The project location is Venice Island, between the Cotton Street and Lock Street bridges, in the Manayunk Section of the City of Philadelphia, Pennsylvania. The project is subject to review as a “Class II” project in accordance with DRBC's Flood Plain Regulations. Class II projects include any development of land—whether residential or non-residential—within a flood hazard area located in a non-tidal portion of the basin, where such development contains more than 25 dwelling units or includes one or more structures covering a total land area of more than 50,000 square feet. Venice Island lies within a flood hazard area, defined by DRBC Flood Plain Regulations as the area inundated by a regulatory flood.

19. Borough of Bryn Athyn D-2008-13 CP-1. An application for approval of the existing 0.065 mgd Academy of the New Church WWTP. The WWTP discharges to an unnamed tributary of Huntingdon Valley Creek, which is a tributary of the Pennypack Creek in Bryn Athyn Borough, Montgomery County, Pennsylvania.

20. Omega Homes, Villa Crossing D-2008-20-1. An application for approval to construct the new 90,000 gpd Villas Crossing WWTP. The WWTP will discharge to Mahoning Creek, a cold water fishery that flows into the Lehigh River, a tributary of the section of the non-tidal Delaware River known as the Lower Delaware, which is designated as Special Protection Waters. The project is located in West Penn Township, Schuylkill County, Pennsylvania.

The business meeting also will include adoption of the Minutes of the Commission's May 14, 2008 business meeting; announcements of upcoming advisory committee meetings and other events; a report on hydrologic conditions in the basin; a report by the Executive Director; and a report by the Commission's General Counsel. At the Commission's meeting on May 14, 2008 the Commissioners deferred until July 16 a vote on proposed amendments to the Commission's Water Quality Regulations and Comprehensive Plan to permanently classify the Lower Delaware River as a Special Protection Water and clarify certain aspects of the rule. Accordingly, this matter also will be before the Commissioners during the July Business Meeting. In addition, the meeting will include a public hearing on a resolution approving the 2008-2013 Water Resources Program; a resolution authorizing the Executive Director to enter into an agreement for actuarial services to re-evaluate anticipated costs associated with General Accounting Standards Board Statement No. 45; a resolution for the minutes authorizing the Executive Director to execute a contract with the lowest responsible bidder for modifications to the HVAC system in the Commission's West Trenton office building; and an opportunity for public dialogue.

Draft dockets scheduled for public hearing on July 16, 2008 will be posted on the Commission's Web site, http://www.drbc.net, where they can be accessed through the Notice of Commission Meeting and Public Hearing. Additional documents relating to the dockets and other items may be examined at the Commission's offices. Please contact William Muszynski at 609-883-9500, extension 221, with any docket-related questions.

Individuals in need of an accommodation as provided for in the Americans with Disabilities Act who wish to attend the informational meeting, conference session or hearings should contact the commission secretary directly at 609-883-9500 ext. 203 or through the Telecommunications Relay Services (TRS) at 711, to discuss how the Commission can accommodate your needs.

Dated: June 20, 2008.
Pamela M. Bush,
Commission Secretary.

[FR Doc. E8-14497 Filed 6-25-08; 8:45 am]

BILLING CODE 6360-01-P